DEPARTMENT OF THE INTERIOR

[Bureau of Indian Affairs

[234A2100DD/AAKC001030/A0A501010.999900]

Land Acquisitions; Buena Vista Rancheria of Me-Wuk Indians of California

AGENCY: Bureau of Indian Affairs, Interior.

ACTION: Notice.

SUMMARY: The Assistant Secretary—Indian Affairs has made a final determination to acquire 54.90 acres, more or less, into trust for the Buena Vista Rancheria of Me-Wuk Indians of California.

DATES: This final determination was made on February 3, 2023.

FOR FURTHER INFORMATION CONTACT: Amy Dutschke, Regional Director, Office Indian Affairs Bureau of Indian Affairs, Pacific Region, 2800 Cottage Way Room W-2820, Sacramento, CA 95825, comments@bia.gov, (916) 978-6000.

SUPPLEMENTARY INFORMATION: On the date listed in the DATES section of this notice, the Assistant Secretary—Indian Affairs issued a decision to accept land in trust for the Buena Vista Rancheria of Me-Wuk Indians of California under the authority of Section 5 of the Indian Reorganization Act of 1934 (48 Stat. 984). The land referred to herein, consisting of 54.90 acres, more or less, is in the unincorporated area of the County of Amador, State of California, described as follows.

Legal Description of Property

Parcel One: The Southeast quarter of the Northwest quarter and all that portion of the Southwest quarter of Section 30, Township 5 North, Range 10 East, M.D.M., lying North of the Northerly line of that certain 80 foot road, as said road was established and conveyed by Deed dated May 15, 1963, executed by Nona M. Kelly and Iona L. Striplin to County of Amador, recorded September 19, 1963 in Book 122 of Official Records, at Page 596.

Excepting therefrom that portion thereof described as follows:

Beginning at the North ¼ corner of said Section 30, as shown upon that certain Official Map entitled “Record of Survey Map of a Portion of the Camache Reservoir Project”, recorded in the Amador County Recorder's Office on June 17, 1963 in Book 9 of Maps and Plats, at Page 90; thence, from said point of beginning, along the Northerly line of said Section 30, South 87°47′51″ West 60.02 feet to a ¾ inch steel rod tagged R.C.E. 10761; thence leaving said Northerly line, parallel to the North-South ¼ Section line, South 00°34′17″ East, 1348.29 feet to a similar rod; thence continuing South 00°34′17″ East, 1219.96 feet, more or less, to a similar steel rod set in the Northerly right-of-way fence of that certain roadway constructed by the East Bay Municipal Utility District; thence Easterly along said right-of-way fence, 83.24 feet to a similar steel rod; thence, leaving said right-of-way fence, parallel to said North-South ¼ Section line, North 00°34′17″ West 1197.11 feet to a similar steel rod; thence, continuing North 00°34′17″ West 1200.57 feet, more or less, to a similar steel rod set on the Northerly line of said Section 30; thence, along said Northerly line, South 87°47′51″ West, 20.00 feet to the point of beginning, as conveyed by Deed dated August 5, 1964, executed by Nona M. Kelly and Iona L. Striplin to County of Amador recorded July 2, 1965 in Book 144 of Official Records, at Page 6.

Parcel Two: All that portion of the Southwest quarter of the Northwest quarter of Section 30, Township 5 North, Range 10 East, M.D.M., lying South and East of the land shown on that Record of Survey No. 4662 filed for record on December 24, 2002 in Book 55 of Maps and Plats at Page 25, Amador County Records.

This legal is made pursuant to that certain Boundary Line Agreement, recorded December 24, 2002 as Instrument No. 2002-16123 of Official Records.

Authority

This notice is published in the exercise of authority delegated by the Secretary of the Interior to the Assistant Secretary—Indian Affairs by 209 Departmental Manual 8.1, and is published to comply with the requirements of 25 CFR 151.12(c)(2)(ii) that notice of the decision to acquire land in trust be promptly provided in the Federal Register.

Bryan Newland,
Assistant Secretary—Indian Affairs.

[FR Doc. 2023-02852 Filed 2-9-23; 8:45 am]

BILLING CODE 4337-15-P